DEPARTMENT OF HEALTH AND HUMAN SERVICES

Substance Abuse and Mental Health Services Administration

Center for Substance Abuse Treatment; Notice of Meeting

Pursuant to Public Law 92-463, notice is hereby given that the Substance Abuse and Mental Health Services Administration's (SAMHSA) Center for Substance Abuse Treatment (CSAT) National Advisory Council (NAC) will meet on October 12, 2016, 12:00 p.m.-2:00 p.m. (EDT). This open session will be a continued discussion on Treatment Quality Issues from the August 24, 2016 open session meeting.

The meeting will be held via teleconference. This open meeting session may be accessed by the public via telephone. Interested persons may present data, information, or views, orally or in writing, on issues pending before the Council. Written submissions should be forwarded to the contact person on or before October 5, 2016. Oral presentations from the public will be scheduled at the conclusion of the meeting. Individuals interested in making oral presentations are encouraged to notify the contact person on or before October 5, 2016. Five minutes will be allotted for each presentation. To obtain the call-in number and access code, submit written or brief oral comments, or request special accommodations for persons with disabilities, please register on-line at http://nac.samhsa.gov/Registration/meetingsRegistration.aspx, or communicate with the CSAT national Advisory Council Designated Federal Officer; Tracy Goss (see contact information below). Meeting information and a roster of Council members may be obtained by accessing the SAMHSA Committee Web site at http://www.samhsa.gov/about-us/advisory-councils/csat-national-advisory-council or by contacting the CSAT National Advisory Council Designated Federal Officer; Tracy Goss (see contact information below).

Council Name: SAMHSA's Center for Substance Abuse Treatment, National Advisory Council.

Date/Time/Type: October 12, 2016, 12:00 p.m.-2:00 p.m. EDT, Open.

Place: SAMHSA, 5600 Fishers Lane, Rockville, Maryland 20857.

Contact: Tracy Goss, Designated Federal Officer, CSAT National Advisory Council, 5600 Fishers Lane, Rockville, Maryland 20857 (mail), Telephone: (240) 276-0759, Fax: (240) 276-2252, Email: tracy.goss@samhsa.hhs.gov.

Dated: September 15, 2016.
Carlos Castillo,
Committee Management Officer, SAMHSA.

[FR Doc. 2016-22551 Filed 9-19-16; 8:45 am]

BILLING CODE 4162-20-P